DEPARTMENT OF HOMELAND SECURITY

U.S. Citizenship and Immigration Services

[CIS No. 2838-25]

Inflation Adjustment to HR-1 Immigration Fees

AGENCY: U.S. Citizenship and Immigration Services, DHS.

ACTION: Notice of inflationary fee adjustment.

SUMMARY: U.S. Citizenship and Immigration Services (USCIS), a component of the Department of Homeland Security (DHS), is announcing inflationary adjustments to immigration-related fees administered by USCIS under the One Big Beautiful Bill Act (HR-1) for Fiscal Year (FY) 2026. HR-1 mandates that USCIS adjust the HR-1 fees. This notice outlines the adjusted fees and their effective date.

DATES: The fees announced in this notice are effective on or after January 1, 2026. Any immigration benefit request postmarked on or after January 1, 2026 without the proper filing fee will be rejected.

FOR FURTHER INFORMATION CONTACT: Office of Chief Financial Officer, U.S. Citizenship and Immigration Services, Department of Homeland Security, 5900 Capital Gateway Drive, Camp Springs, MD 20746; telephone 240-721-3000 (this is not a toll-free number). Individuals with hearing or speech impairments may access the telephone number above via TTY by calling the toll-free Federal Information Relay Service at 1-877-889-5627 (TTY/TDD).

SUPPLEMENTARY INFORMATION:

Table of Abbreviations

BLS—U.S. Bureau of Labor Statistics

CPI-U—Consumer Price Index for All Urban Consumers

DHS—Department of Homeland Security

EAD—Employment Authorization Document

FY—Fiscal Year

HR-1—One Big Beautiful Bill Act

INA—Immigration and Nationality Act

TPS—Temporary Protected Status

USCIS—U.S. Citizenship and Immigration Services

I. Background and Authority

H.R.1—One Big Beautiful Bill Act

On July 4, 2025, the President signed into law H.R.1—One Big Beautiful Bill Act, Public Law 119-21, 139 Stat. 72 (HR-1), a comprehensive legislative package that amended various laws, including the Immigration and Nationality Act (INA). Among its changes, HR-1 introduced new immigration fees as minimum amounts for Fiscal Year (FY) 2025, authorized agencies to adjust them through rulemaking, and mandated annual updates based on the Consumer Price Index for All Urban Consumers (CPI-U). See HR-1, Title X, Subtitle A, Part I, Sections 100001 through 100018.

On July 22, 2025, USCIS published a Federal Register Notice announcing the implementation of these fees. See 90 FR 34511 (July 22, 2025).

• $100 fee for any alien who files an application for asylum under section 208 (8 U.S.C. 1158) at the time such application is filed. Sec. 100002.

• $550 fee for individuals filing an initial application for employment authorization based on a pending asylum application under section 208(d)(2) (8 U.S.C. 1158(d)(2)). Sec. 10003(a).

• $275 fee for renewals and extensions of employment authorization for asylum applicants. Sec. 100011.

• $550 fee for any alien paroled into the United States for any initial application for employment authorization at the time such initial application is filed. Sec. 100003(b).

• $275 fee for renewals and extensions of employment authorization based on a grant of parole. Sec. 100010.

• $550 fee for an alien who files an initial employment authorization application under Temporary Protected Status (TPS). Sec. 100003(c).

• $275 fee for renewals and extensions of employment authorization for aliens granted TPS. Sec. 100012.

• $500 fee for first-time applicants filing Form I-821, Application for Temporary Protected Status, not including the $30 biometric services fee. Sec. 100006.

• $250 fee for any alien who files Form I-360, Petition for Amerasian, Widow(er), or Special Immigrant for Special Immigrant Juvenile (SIJ) status under section 101(a)(27)(J), 8 U.S.C. 1101(a)(27)(J). Sec. 100005.

• $100 annual fee for all aliens with a pending asylum application for each calendar year the application remains pending. Sec. 100009.¹

¹ On October 30, 2025, as required by an order issued in in Asylum Seeker Advocacy Project v. United States Citizenship and Immigration Services, et al., SAG-25-03299 (D. Md.), USCIS paused the implementation of the July 22, 2025 notice as it relates to annual asylum fee notices. Any applicant who has received a notice from USCIS may disregard that notice pending updated instructions. That order does not affect the adjustment of the amount of the AAF as required by the law and announced in this notice.

HR-1 requires that DHS, beginning in FY 2026 and continuing for each subsequent fiscal year, adjust the immigration-related fees for inflation. HR-1 prescribes that DHS use the percentage change to the CPI-U for the month of July in the current year compared to the preceding calendar year, and round each fee to the next lowest multiple of $10 or down to the nearest dollar as authorized by HR-1. See e.g. Sec. 100002(c) or Sec. 100007(a)(3).

II. Basis for Adjustment

In accordance with the provisions outlined in HR-1, most fees established for various immigration-related applications and benefit requests are subject to annual inflation adjustments. USCIS calculated these adjustments using the percentage change in the CPI-U from July 2024 to July 2025, with most fees “rounded to the next lowest multiple of $10” as required by HR-1. See e.g., sec 100002(c). Section 100009 specifies that the Annual Asylum Fee is adjusted for inflation and rounded down to the nearest “dollar.” See sec 100009(b)(2)(B). This approach aligns with HR-1 requirements to use the percentage change in CPI-U from the “month of July preceding the date on which such adjustment takes effect . . . for the same month of the preceding calendar year.” Id. In July 2024, the CPI-U was 314.540 and in July 2025 it was 323.048.² Therefore, between July 2024 and July 2025, the CPI-U increased by approximately 2.70 percent.³ When this percentage increase is applied to the current (FY 2025) HR-1 fees and rounded to the next lowest $10 increment, some fees increase by $5, $10, or $20. Some fees will not change because the inflation adjusted amount is equal to the current fee when rounded to the next lowest $10 increment. Table 1 summarizes the HR-1 fees for FY 2026 which USCIS collects.

² See U.S. Bureau of Labor Statistics (BLS), CPI-U Series Id CUUR0000SA0, https://data.bls.gov/timeseries/CUUR0000SA0 (last visited Sep. 24, 2025).

³ DHS calculated this by subtracting the July 2024 CPI-U (314.540) from the July 2025 CPI-U (323.048), then dividing the result (8.508) by the July 2024 CPI-U (314.540). Calculation: (323.048−314.540)/314.540 = 0.0270 × 100 = 2.705 percent.

⁴ Public Law 119-21 section 100011, which governs fees for Renewal or Extension of Employment Authorization for Asylum Applicants, does not provide for inflationary adjustments.

Table 1—HR-1 Inflation Adjustments for FY 2026
Immigration fee type | Current fee | CPI-U change (%) | Inflation adjustment | Fee plus inflation | Round down to $10 | Round down to nearest dollar | Fee increase | FY 2026 fee
I-589 Asylum Fee (Initial fee for aliens filing an application for asylum) | $100 | 2.70 | $2.70 | $102.70 | $100 | N/A | $0 | $100
I-589 Annual Pending Asylum Application Fee | 100 | 2.70 | 2.70 | 102.70 | N/A | 102 | $2 | 102
I-765 Initial Asylum Applicant Employment Authorization Document (EAD) | 550 | 2.70 | 14.88 | 564.88 | 560 | N/A | $10 | 560
I-765 Renewal or Extension of Asylum Applicant EAD | 275 | N/A | N/A | N/A | N/A | N/A | HR-1 does not provide for adjustment ⁴ | 275
I-765 Initial Parole EAD—Valid for 1 year | 550 | 2.70 | 14.88 | 564.88 | 560 | N/A | $10 | 560
I-765 Renewal or Extension of Parole EAD—Valid for 1 year | 275 | 2.70 | 7.44 | 282.44 | 280 | N/A | $5 | 280
I-765 Initial Temporary Protected Status (TPS) EAD—Valid for 1 year or the duration of the TPS designation whichever is shorter | 550 | 2.70 | 14.88 | 564.88 | 560 | N/A | $10 | 560
I-765 Renewal or Extension of TPS EAD—Valid for 1 year | 275 | 2.70 | 7.44 | 282.44 | 280 | N/A | $5 | 280
I-131 EAD upon new period of Parole (Re-parole) | 275 | 2.70 | 7.44 | 282.44 | 280 | N/A | $5 | 280
I-821 TPS Fee | 500 | 2.70 | 13.52 | 513.52 | 510 | N/A | $10 | 510
I-360 Special Immigrant Juvenile (SIJ) Fee | 250 | 2.70 | 6.76 | 256.76 | 250 | N/A | $0 | 250

For the fees outlined in this notice, the statute clearly states that agencies should round inflation adjustments down to the nearest dollar or, in most cases, to the “next lowest multiple of $10.” Consistent with the statute, when applicable, USCIS is rounding down to the next lowest multiple of $10 increment rather than rounding to the nearest $10 increment.

The methodology USCIS used ensures that fees keep pace with inflation as enacted by Congress in HR-1.⁵

⁵ See e.g., sec 100002(c).

III. Effective Date and Implementation

USCIS will require the filing fees for FY 2026 established in this notice for any immigration benefit requests postmarked on or after January 1, 2026. Because of the time needed by DHS and USCIS to issue guidance on and operationalize the change in the required fees, and for the public to adapt their immigration benefit requests that are in process to the changes, requests postmarked on or after January 1, 2026 without the proper filing fee will be rejected. DHS has determined that the policy required by this Notice is the most equitable path forward to effectuate collection of HR-1 fees for FY 2026 as expeditiously as practicable for the fees administered by USCIS.⁶ The initial HR-1 fees and subsequent inflation adjustments are required by law, but for additional clarity, DHS may codify the fees covered by this notice and annual adjustments in 8 CFR part 106 in a future rule.

⁶ The fee required by section 100004 of HR-1 from any alien who is paroled into the United States, and by section 100008 from any alien who submits an application for a Form I-94 Arrival/Departure Record, will be adjusted for inflation as required by the law in a subsequent notice in the Federal Register. DHS or the relevant component of DHS will explain the effective dates for implementation of the changes that are announced in each notice, rule, or guidance document.

Joseph B. Edlow,
Director, U.S. Citizenship and Immigration Services.

[FR Doc. 2025-20622 Filed 11-20-25; 8:45 am]

BILLING CODE 9111-97-P